DEPARTMENT OF COMMERCE

International Trade Administration

[A-580-809]

Circular Welded Non-Alloy Steel Pipe From the Republic of Korea: Preliminary Results of Antidumping Duty Administrative Review and Preliminary Determination of No Shipments; 2018-2019

AGENCY: Enforcement and Compliance, International Trade Administration, Department of Commerce.

SUMMARY: The Department of Commerce (Commerce) preliminarily determines that circular welded non-alloy steel pipe (CWP) from the Republic of Korea (Korea) were not sold at prices below normal value during the period of review (POR) November 1, 2018, through October 31, 2019. We invite interested parties to comment on these preliminary results.

DATES: Applicable March 25, 2021.

FOR FURTHER INFORMATION CONTACT: Dusten Hom, AD/CVD Operations, Office I, Enforcement and Compliance, International Trade Administration, U.S. Department of Commerce, 1401 Constitution Avenue NW, Washington DC 20230; telephone: (202) 482-5075.

SUPPLEMENTARY INFORMATION:

Background

Commerce is conducting an administrative review of the antidumping duty order on CWP from Korea, in accordance with section 751(a) of the Tariff Act of 1930, as amended (the Act).¹ On February 6, 2020, in accordance with 19 CFR 351.221(c)(1)(i), we initiated the administrative review ² of the Order covering 24 producers and/or exporters, including mandatory respondents, Husteel Co., Ltd. (Husteel) and Hyundai Steel Company (Hyundai Steel).³ The remaining companies were not selected for individual examination and remain subject to this administrative review. For a complete description of the events that followed the initiation of this review, see the Preliminary Decision Memorandum.⁴

¹ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (Order).

² See Initiation of Antidumping and Countervailing Duty Administrative Reviews, 85 FR 6869 (February 6, 2020).

³ See Memorandum, “Respondent Selection,” dated April 20, 2020.

⁴ See Memorandum, “Decision Memorandum for the Preliminary Results of Antidumping Duty Administrative Review and Preliminary Determination of No Shipments: Circular Welded Non-Alloy Steel Pipe from the Republic of Korea: 2018-2019,” dated concurrently with these preliminary results and hereby adopted by this notice (Preliminary Decision Memorandum).

On April 24, 2020, Commerce tolled all deadlines in administrative reviews by 50 days, thereby tolling the deadline for the preliminary results of review.⁵ On July 21, 2020, Commerce tolled the deadlines in administrative reviews by an additional 60 days, thereby tolling the deadline for the preliminary results of review until November 19, 2020.⁶ On October 28, 2020, Commerce extended the time limit for issuing the the preliminary results of this review by 120 days, to no later than March 19, 2021.⁷

⁵ See Memorandum, “Tolling of Deadlines for Antidumping and Countervailing Duty Administrative Reviews in Response to Operational Adjustments Due to COVID-19 Government,” dated April 24, 2020.

⁶ See Memorandum, “Tolling of Deadlines for Antidumping and Countervailing Duty Administrative Reviews,” dated July 21, 2020.

⁷ See Memorandum, “Circular Welded Non-Alloy Steel Pipe from the Republic of Korea: Extension of Deadline for Preliminary Results of 2018-2019 Antidumping Administrative Review,” dated October 28, 2020.

Scope of the Order

The merchandise subject to the Order is CWP from Korea. A full description of the scope, see the Preliminary Decision Memorandum.⁸

⁸ For a full description of the scope of the Order, see Preliminary Decision Memorandum.

Methodology

Commerce is conducting this review in accordance with section 751(a) of the Act. For a full description of the methodology underlying these preliminary results, see the Preliminary Decision Memorandum. A list of the topics discussed in the Preliminary Decision Memorandum is included as Appendix I to this notice. The Preliminary Decision Memorandum is a public document and made available to the public via Enforcement and Compliance's Antidumping and Countervailing Duty Centralized Electronic Service System (ACCESS). ACESS is available to registered users at http://access.trade.gov. In addition, a complete version of the Preliminary Decision Memorandum can be accessed directly at http://enforcement.trade.gov/frn/.

Preliminary Determination of No Shipments

One producer and/or exporter properly filed a certification reporting that it made no shipments of subject merchandise during the POR: HiSteel. U.S. Customs and Border Protection (CBP) did not have any information to contradict this claim of no shipments during the POR.⁹ Therefore, we preliminarily determine that this company did not have shipments of subject merchandise during the POR. Consistent with Commerce's practice,¹⁰ Commerce finds that it is not appropriate to rescind the review with respect to this company, but rather to complete the review and issue appropriate instructions to CBP based on the final results of this review.

⁹ See Preliminary Decision Memorandum at 3-4.

¹⁰ See, e.g., Heavy Walled Rectangular Welded Carbon Steel Pipes and Tubes from the Republic of Turkey: Preliminary Results of Antidumping Duty Administrative Review and Preliminary Determination of No Shipments; 2017-2018, 84 FR 34863 (July 19, 2019), and accompanying Preliminary Decision Memorandum at 4.

Rate for Non-Selected Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we have preliminarily calculated weighted-average dumping margins for Husteel and Hyundai Steel that are zero. For the companies that were not selected for individual review, we preliminarily assigned a rate based on the rates for the respondents that were selected for individual review, excluding rates that are zero, de minimis, or based entirely on facts available.¹¹ In accordance with the U.S. Court of Appeals for the Federal Circuit's decision in Albemarle Corp. v. United States, we are applying to the twenty-one companies that had reviewable transactions during the POR the zero percent rates calculated for Husteel and Hyundai Steel.¹² These are the only rates determined in this review for individual respondents and, thus, should be applied to the twenty-one firms not selected for individual review under section 735(c)(5)(B) of the Act.

¹¹ See section 735(c)(5)(A) of the Act.

¹² See Albemarle Corp. v. United States, 821 F.3d 1345 (Fed. Cir. 2016).

¹³ See Appendix II for a full list of these companies.

Preliminary Results of the Administrative Review

Commerce preliminarily determines that the following weighted-average dumping margins exist for the administrative review covering the period November 1, 2018, through October 31, 2019:

Producer/exporter | Weighted- average dumping margin (percent)
Husteel Co., Ltd | * 0.00
Hyundai Steel Company (including Hyundai Steel (Pipe Division)) | * 0.00
Review-Specific Average Rate Applicable to the Following Companies
Other Respondents ¹³ | * 0.00
* De minimus.

Disclosure

We intend to disclose the calculations performed in connection with these preliminary results to interested parties within five days after the date of publication of this notice in accordance with 19 CFR 351.224(b).

Public Comment

Pursuant to 19 CFR 351.309(c), interested parties may submit case briefs not later than 30 days after the date of publication of this notice. Rebuttal briefs, limited to issues raised in the case briefs, may be filed not later than seven days after the date for filing case briefs.¹⁴ Commerce modified certain of its requirements for serving documents containing business proprietary information until further notice.¹⁵ Parties who submit case briefs or rebuttal briefs in this proceeding are encouraged to submit with each argument: (1) A statement of the issue, (2) a brief summary of the argument, and (3) a table of authorities.¹⁶

¹⁴ See 19 CFR 351.309(d).

¹⁵ See Temporary Rule Modifying AD/CVD Service Requirements Due to COVID-19; Extension of Effective Period, 85 FR 41363 (July 10, 2020).

¹⁶ See 19 CFR 351.309(c)(2) and (d)(2).

Pursuant to 19 CFR 351.310(c), interested parties who wish to request a hearing, must submit a written request to the Assistant Secretary for Enforcement and Compliance, filed electronically via ACCESS. An electronically filed document must be received successfully in its entirety by the Department's electronic records system, ACCESS, by 5:00 p.m. Eastern Time within 30 days after the date of publication of this notice.¹⁷ Requests should contain: (1) The party's name, address and telephone number; (2) the number of participants; and (3) a list of issues to be discussed. If a request for a hearing is made, Commerce intends to hold the hearing at a time and date to be determined. Issues raised in the hearing will be limited to those raised in the briefs. An electronically-filed request for a hearing must be received successfully in its entirety by ACCESS by 5 p.m. Eastern Time within 30 days after the date of publication of this notice.¹⁸

¹⁷ See 19 CFR 351.310(c).

¹⁸ Id.; see also 19 CFR 351.303(b)(1).

Unless the deadline is extended, Commerce intends to issue the final results of these reviews, including the results of its analysis of issues raised by parties in their comments, within 120 days after the publication of these preliminary results, pursuant to section 751(a)(3)(A) of the Act and 19 CFR 351.213(h).

Assessment Rates

Upon issuing the final results, Commerce will determine, and CBP shall assess, antidumping duties on all appropriate entries covered by this review. If an examined respondent's weighted-average dumping margin is above de minimis (i.e., 0.5 percent) in the final results of this review, we will calculate importer-specific ad valorem antidumping duty assessment rates based on the ratio of the total amount of dumping calculated for the importer's examined U.S. sales and, where possible, the total entered value of those same sales in accordance with 19 CFR 351.212(b)(1).¹⁹ We will instruct CBP to assess antidumping duties on all appropriate entries covered by this review when the importer-specific assessment rate calculated in the final results of this review is avove de minimis. Where either the respondent's weighted-average dumping margin is zero or de minimis within the meaning of 19 CFR 351.106(c)(1), or an importer-specific assessment rate is zero or de minimis, we will instruct CBP to liquidate the appropriate entries without regard to antidumping duties.

¹⁹ See Antidumping Proceedings: Calculation of the Weighted-Average Dumping Margin and Assessment Rate in Certain Antidumping Proceedings: Final Modification, 77 FR 8101, 8103 (February 14, 2012).

For entries of subject merchandise during the POR produced by Husteel or Hyundai Steel for which they did not know that the merchandise was destined to the United States and for all entries attributed to HiSteel, for which we found no shipments during the POR, we will instruct CBP to liquidate those entries at the all-others rate if there is no rate for the intermediate company(ies) involved in the transaction.²⁰

²⁰ For a full discussion of this practice, see Antidumping and Countervailing Duty Proceedings: Assessment of Antidumping Duties, 68 FR 23954 (May 6, 2003).

For the companies that were not selected for individual examination, we will instruct CBP to assess antidumping duties at an ad valorem rate equal to each company's weighted-average dumping margin determined in the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective upon publication in the Federal Register of the notice of final results of administrative review for all shipments of CWP from Korea entered, or withdrawn from warehouse, for consumption on or after the date of publication as provided by section 751(a)(2) of the Act: (1) The cash deposit rate for companies subject to this review will be the rates established in the final results of this administrative review; (2) for merchandise exported by a company not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 4.80 percent,²¹ the all-others rate established in the less-than-fair-value investigation. These cash deposit requirements, when imposed, shall remain in effect until further notice.

²¹ See Order.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing the preliminary results of this review in accordance with sections 751(a)(1) and 777(i) of the Act, and 19 CFR 351.221(b)(4).

Dated: March 19, 2021.
Christian Marsh,
Acting Assistant Secretary for Enforcement and Compliance.

Appendix I

List of Topics Discussed in the Preliminary Decision Memorandum

I. Summary

II. Background

III. Scope of the Order

IV. Preliminary Determination of No Shipments

V. Affiliation

VI. Discussion of the Methodology

VII. Constructed Export Price

VIII. Normal Value

IX. Currency Conversion

X. Recommendation

Appendix II

List of Companies Not Individually Examined

1. Aju Besteel

2. Bookook Steel

3. Chang Won Bending

4. Dae Ryung

5. Daewoo Shipbuilding & Marine Engineering (Dsme)

6. Daiduck Piping

7. Dong Yang Steel Pipe

8. Dongbu Steel

9. Eew Korea Company

10. Hyundai Rb

11. Kiduck Industries

12. Kum Kang Kind

13. Kumsoo Connecting

14. Miju Steel Mfg.

15. Nexteel Co., Ltd.

16. Samkang M&T

17. Seah Fs

18. Seah Steel

19. Steel Flower

20. Vesta Co., Ltd.

21. Ycp Co.

[FR Doc. 2021-06198 Filed 3-24-21; 8:45 am]

BILLING CODE 3510-DS-P